DEPARTMENT OF ENERGY

Federal Energy Regulatory Commission

Combined Notice of Filings #1

Take notice that the Commission received the following electric corporate filings:

Docket Numbers: EC11-60-004.

Applicants: Progress Energy, Inc., Duke Energy Corporation.

Description: Revised Compliance Filing of Duke Energy Corporation and Progress Energy, Inc.

Filed Date: 3/26/12.

Accession Number: 20120326-5057.

Comments Due: 5 p.m. ET 4/25/12.

Docket Numbers: EC12-86-000.

Applicants: PacifiCorp.

Description: Application of PacifiCorp for Authorization of Transaction Under Section 203 of the Federal power Act and Request of Waivers and Expedited Consideration.

Filed Date: 3/26/12.

Accession Number: 20120326-5144.

Comments Due: 5 p.m. ET 4/16/12.

Take notice that the Commission received the following exempt wholesale generator filings:

Docket Numbers: EG12-47-000.

Applicants: Wellhead Power Delano, LLC.

Description: Self-Certification of Exempt Wholesale Generator Status of Wellhead Power Delano, LLC.

Filed Date: 3/23/12.

Accession Number: 20120323-5183.

Comments Due: 5 p.m. ET 4/13/12.

Take notice that the Commission received the following electric rate filings:

Docket Numbers: ER11-2154-002; ER10-2298-003.

Applicants: Twin Eagle Resource Management, LLC, Enserco Energy LLC.

Description: Change in Status Filing of Twin Eagle Resource Management, LLC, et al.

Filed Date: 3/26/12.

Accession Number: 20120326-5132.

Comments Due: 5 p.m. ET 4/16/12.

Docket Numbers: ER11-4336-005.

Applicants: ISO New England Inc.

Description: Order 745 Aggregation Compliance Filing to be effective 6/1/2012.

Filed Date: 3/26/12.

Accession Number: 20120326-5053.

Comments Due: 5 p.m. ET 4/16/12.

Docket Numbers: ER12-398-000.

Applicants: Southwestern Electric Power Company.

Description: Southwestern Electric Power Company submits tariff filing per: 20120323 Bentonville Sub Refund Report to be effective N/A.

Filed Date: 3/23/12.

Accession Number: 20120323-5184.

Comments Due: 5 p.m. ET 4/13/12.

Docket Numbers: ER12-991-001.

Applicants: ISO New England Inc.

Description: Amendment to Filing of Revisions to Attachment K and Market Rule 1 to be effective 5/26/2012.

Filed Date: 3/26/12.

Accession Number: 20120326-5084.

Comments Due: 5 p.m. ET 4/16/12.

Docket Numbers: ER12-1113-002.

Applicants: Midwest Independent Transmission System Operator, Inc., International Transmission Company.

Description: Midwest Independent Transmission System Operator, Inc. submits tariff filing per 35.17(b): ITC-DTE River Rouge Second Amendment to be effective 4/17/2012.

Filed Date: 3/23/12.

Accession Number: 20120323-5163.

Comments Due: 5 p.m. ET 4/13/12.

Docket Numbers: ER12-1335-000.

Applicants: PJM Interconnection, L.L.C.

Description: PJM Interconnection, L.L.C. submits tariff filing per 35.13(a)(2)(iii: Queue Position O50; Original Service Agreement No. 3271 to be effective 2/22/2012.

Filed Date: 3/23/12.

Accession Number: 20120323-5186.

Comments Due: 5 p.m. ET 4/13/12.

Docket Numbers: ER12-1336-000.

Applicants: AEP Texas North Company.

Description: AEP Texas North Company submits tariff filing per 35.13(a)(2)(iii: 20120323 Kaiser Creek SUA Cancellation to be effective 1/10/2012.

Filed Date: 3/23/12.

Accession Number: 20120323-5187.

Comments Due: 5 p.m. ET 4/13/12.

Docket Numbers: ER12-1337-000.

Applicants: Southern California Edison Company.

Description: Southern California Edison Company submits tariff filing per 35.15: Notice of Cancellation of LtrAgmt SCE-GBU for 1901 CA St Redlands Roof Top Solar to be effective 1/31/2012.

Filed Date: 3/26/12.

Accession Number: 20120326-5001.

Comments Due: 5 p.m. ET 4/16/12.

Docket Numbers: ER12-1338-000.

Applicants: Duke Energy Carolinas, LLC, Carolina Power & Light Company.

Description: JDA Filing 2012 to be effective 12/31/9998.

Filed Date: 3/26/12.

Accession Number: 20120326-5022.

Comments Due: 5 p.m. ET 4/16/12.

Docket Numbers: ER12-1339-000.

Applicants: Carolina Power & Light Company.

Description: Rate Schedule No. 192 of Carolina Power and Light Company to be effective 12/31/9998.

Filed Date: 3/26/12.

Accession Number: 20120326-5023.

Comments Due: 5 p.m. ET 4/16/12.

Docket Numbers: ER12-1340-000.

Applicants: Carolina Power & Light Company.

Description: Rate Schedule No. 193 of Carolina Power and Light Company to be effective 12/31/9998.

Filed Date: 3/26/12.

Accession Number: 20120326-5024.

Comments Due: 5 p.m. ET 4/16/12.

Docket Numbers: ER12-1341-000.

Applicants: Carolina Power & Light Company.

Description: Rate Schedule No. 194 of Carolina Power and Light Company to be effective 12/31/9998.

Filed Date: 3/26/12.

Accession Number: 20120326-5025.

Comments Due: 5 p.m. ET 4/16/12.

Docket Numbers: ER12-1342-000.

Applicants: Duke Energy Carolinas, LLC.

Description: Duke Energy Carolinas, LLC submits tariff filing per 35.13(a)(2)(iii: PSA Filing to be effective 12/31/9998.

Filed Date: 3/26/12.

Accession Number: 20120326-5028.

Comments Due: 5 p.m. ET 4/16/12.

Docket Numbers: ER12-1343-000.

Applicants: Duke Energy Carolinas, LLC, Florida Power Corporation, Carolina Power & Light Company.

Description: Merger-Related Filing of Joint OATT to be effective 12/31/9998.

Filed Date: 3/26/12.

Accession Number: 20120326-5034.

Comments Due: 5 p.m. ET 4/16/12.

Docket Numbers: ER12-1344-000.

Applicants: Public Service Company of New Mexico.

Description: Baseline filing of PNM-LAC NITSA SA-195 to be effective 3/23/2012.

Filed Date: 3/23/12.

Accession Number: 20120323-5203.

Comments Due: 5 p.m. ET 4/13/12.

Docket Numbers: ER12-1345-000.

Applicants: Florida Power Corporation.

Description: Certificate of Concurrence of Florida Power Corporation with Joint OATT to be effective 12/31/9998.

Filed Date: 3/26/12.

Accession Number: 20120326-5038.

Comments Due: 5 p.m. ET 4/16/12.

Docket Numbers: ER12-1346-000.

Applicants: Carolina Power & Light Company.

Description: Certificate of Concurrence of Carolina Power and Light Company with Joint OATT to be effective 12/31/9998.

Filed Date: 3/26/12.

Accession Number: 20120326-5040.

Comments Due: 5 p.m. ET 4/16/12.

Docket Numbers: ER12-1347-000.

Applicants: Carolina Power & Light Company.

Description: Rate Schedule No. 190 of Carolina Power and Light Company to be effective 12/31/9998.

Filed Date: 3/26/12.

Accession Number: 20120326-5041.

Comments Due: 5 p.m. ET 4/16/12.

Docket Numbers: ER12-1348-000.

Applicants: Northern States Power Company, a Minnesota corporation, Northern States Power Company, a Wisconsin corporation.

Description: 20120326—InterchangeAgreement to be effective 1/1/2012.

Filed Date: 3/26/12.

Accession Number: 20120326-5077.

Comments Due: 5 p.m. ET 4/16/12.

Docket Numbers: ER12-1349-000.

Applicants: Burney Forest Products, A Joint Venture.

Description: Burney Forest Products, A Joint Venture submits Notice of Cancellation of Power Sale Agreement, Rate Schedule No. 1.

Filed Date: 03/23/2012.

Accession Number: 20120323-5168.

Comments Due: 5 p.m. ET 4/13/12.

Docket Numbers: ER12-1350-000.

Applicants: Southern California Edison Company.

Description: SCE Cancels Added Facilities Agreement & DSA with Green Power Partners (WDT035).

Filed Date: 3/26/12.

Accession Number: 20120326-5094.

Comments Due: 5 p.m. ET 4/16/12.

Docket Numbers: ER12-1351-000.

Applicants: PJM Interconnection, L.L.C.

Description: PJM Interconnection, L.L.C. submits tariff filing per 35.13(a)(2)(iii: Clean Up filing to Combine Accepted Revisions in ER11-4106, ER11-3384 & ER12-636 to be effective 4/1/2012.

Filed Date: 3/26/12.

Accession Number: 20120326-5131.

Comments Due: 5 p.m. ET 4/16/12.

Take notice that the Commission received the following electric securities filings:

Docket Numbers: ES12-28-000.

Applicants: NSTAR Electric Company.

Description: Application of NSTAR Electric Company for Authority to Issue Short-Term Debt Securities.

Filed Date: 3/26/12.

Accession Number: 20120326-5143.

Comments Due: 5 p.m. ET 4/16/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 26, 2012.
Nathaniel J. Davis, Sr.,
Deputy Secretary.

[FR Doc. 2012-7883 Filed 3-30-12; 8:45 am]

BILLING CODE 6717-01-P